INTERNATIONAL TRADE COMMISSION

[Investigation No. 337-TA-960]

Certain Toner Supply Containers and Components Thereof; Commission Determination Not To Review an Initial Determination Terminating the Investigation Based Upon a Consent Order Stipulation and Consent Order; Issuance of a Consent Order; Termination of the Investigation

AGENCY: U.S. International Trade Commission.

ACTION: Notice.

SUMMARY: Notice is hereby given that the U.S. International Trade Commission has determined not to review an initial determination (“ID”) (Order No. 4) of the presiding administrative law judge (“ALJ”) terminating the above-captioned investigation based upon a consent order stipulation and consent order. The Commission has also determined to issue a consent order.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 16, 2015, based on a complaint filed by Canon Inc. of Tokyo, Japan; Canon U.S.A., Inc. of Melville, New York; and Canon Virginia, Inc. of Newport News, Virginia (together, “Canon”). 80 FR 42119-20. The complaint alleges that respondents General Plastic Industrial Co., Ltd. of Wu-Chi Town, Taiwan, and Color Imaging, Inc., of Norcross, Georgia (together, “Respondents”), are in violation of section 337 of the Tariff Act of 1930, as amended, 19 U.S.C. 1337, by reason of infringement of certain claims of U.S. Patent Nos. 8,909,094 and 9,046,820. Id. The Office of Unfair Import Investigations is not a party to the investigation. Id. at 42120.

On August 4, 2015, Respondents filed an unopposed motion to terminate the investigation based upon a consent order stipulation and proposed consent order. The ALJ granted the motion that same day. He found that the motion for termination by consent order stipulation complies with the requirements of Commission Rule 210.21(c), 19 CFR 210.21(c). He further found, pursuant to Commission Rule 210.50(b)(2), that termination of the investigation would not be contrary to the public interest. No petitions for review of the ID were received.

The Commission has determined not to review the ID and to issue a consent order. The investigation is terminated in its entirety.

The authority for the Commission's determination is contained in section 337 of the Tariff Act of 1930, as amended, 19 U.S.C. 1337, and in part 210 of the Commission's Rules of Practice and Procedure, 19 CFR part 210.

By order of the Commission.
Issued: September 2, 2015.
Lisa R. Barton,
Secretary to the Commission.

[FR Doc. 2015-22526 Filed 9-4-15; 8:45 am]

BILLING CODE 7020-02-P